NUCLEAR REGULATORY COMMISSION

[NRC-2011-0136]

Notice of Opportunity for Public Comment on the Proposed Model Safety Evaluation for Plant-Specific Adoption of Technical Specifications, Task Force Traveler TSTF-510, Revision 2, “Revision to Steam Generator Program Inspection Frequencies and Tube Sample Selection”

AGENCY: Nuclear Regulatory Commission.

ACTION: Notice of opportunity for public comment.

SUMMARY: The U.S. Nuclear Regulatory Commission (NRC) is requesting public comment on the proposed model safety evaluation (SE) for plant-specific adoption of Technical Specifications (TS) Task Force (TSTF) Traveler TSTF-510, Revision 2, “Revision to Steam Generator Program Inspection Frequencies and Tube Sample Selection.” TSTF-510, Revision 2, is available in the Agencywide Documents Access and Management System (ADAMS) under Accession Number ML110610350, and includes a model application. The proposed change revises the Improved Standard Technical Specification (ISTS), NUREGs-1430, -1431, and -1432, Specification 5.5.9, “Steam Generator (SG) Program,” 5.6.7, “Steam Generator Tube Inspection Report,” and the SG Tube Integrity specification (Limiting Condition for Operation (LCO) 3.4.17, LCO 3.4.20, and LCO 3.4.18 in ISTS NUREG-1430, -1431, and -1432, respectively). The proposed changes are necessary to address implementation issues associated with the inspection periods, and address other administrative changes and clarifications. The model SE will facilitate expedited approval of plant-specific adoption of TSTF-510, Revision 2. This TS improvement is part of the consolidated line item improvement process (CLIIP).

DATES: The comment period expires on July 20, 2011. Comments received after this date will be considered, if it is practical to do so, but the Commission is able to ensure consideration only for comments received on or before this date.

ADDRESSES: You may submit comments by any one of the following methods. Please include Docket ID NRC-2011-0136 in the subject line of your comments. Comments submitted in writing or in electronic form will be posted on the NRC Web site and on the Federal rulemaking Web site http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

• Federal rulemaking Web site: Go to http://www.regulations.gov and search for documents filed under Docket ID NRC-2011-0136. Address questions about NRC dockets to Carol Gallagher, 301-492-3668; e-mail carol.gallagher@nrc.gov.

• Mail comments to: Cindy K. Bladey, Chief, Rules, Announcements, and Directives Branch (RADB), Division of Administrative Services, Office of Administration, Mail Stop: TWB-05-B01M, U.S. Nuclear Regulatory Commission, Washington, DC 20555-0001, or by fax to RADB at 301-492-3446.

You can access publicly available documents related to this notice using the following methods:

• NRC's Public Document Room (PDR): The public may examine and have copied for a fee publicly available documents at the NRC's PDR, Room O1 F21, One White Flint North, 11555 Rockville Pike, Rockville, Maryland 20852.

• NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The proposed model SE for plant-specific adoption of TSTF-510, Revision 2, is available electronically under ADAMS Accession Number ML111150552.

• Federal Rulemaking Web site: Public comments and supporting materials related to this notice can be found at http://www.regulations.gov by searching on Docket ID: NRC-2011-0136.

FOR FURTHER INFORMATION CONTACT: Ms. Michelle C. Honcharik, Senior Project Manager, Licensing Processes Branch, Mail Stop: O-12 D1, Division of Policy and Rulemaking, Office of Nuclear Reactor Regulation, U.S. Nuclear Regulatory Commission, Washington, DC, 20555-0001; telephone 301-415-1774 or e-mail at michelle.honcharik@nrc.gov or Mr. Ravinder Grover, Technical Specifications Branch, Mail Stop: O-7 C2A, Division of Inspection and Regional Support, Office of Nuclear Reactor Regulation, U.S. Nuclear Regulatory Commission, Washington, DC 20555-0001; telephone: 301-415-2166 or e-mail: ravinder.grover@nrc.gov.

SUPPLEMENTARY INFORMATION: TSTF-510, Revision 2, is applicable to pressurized water reactor plants. The proposed changes revise the ISTS to implement a number of editorial corrections, changes, and clarifications intended to improve internal consistency, consistency with the implementing industry documents, and usability without changing the intent of the requirements. The proposed changes to Specification 5.5.9.d.2 are more effective in managing the frequency of verification of tube integrity and sample selection than those required by current technical specifications. As a result, the proposed changes will not reduce the assurance of the function and integrity of SG tubes. TS Bases changes that reflect the proposed changes are included.

This notice provides an opportunity for the public to comment on proposed changes to the ISTS after a preliminary assessment and finding by the NRC staff that the agency will likely offer the changes for adoption by licensees. This notice solicits comment on proposed changes to the ISTS, which if implemented by a licensee will modify the plant-specific TS. The NRC staff will evaluate any comments received and reconsider the changes or announce the availability of the changes for adoption by licensees as part of the CLIIP. Licensees opting to apply for this TS change are responsible for reviewing the NRC staff's SE, and the applicable technical justifications, providing any necessary plant-specific information, and assessing the completeness and accuracy of their license amendment request (LAR). The NRC will process each amendment application responding to the notice of availability according to applicable NRC rules and procedures.

The proposed changes do not prevent licensees from requesting an alternate approach or proposing changes other than those proposed in TSTF-510, Revision 2. However, significant deviations from the approach recommended in this notice or the inclusion of additional changes to the license require additional NRC staff review. This may increase the time and resources needed for the review or result in NRC staff rejection of the LAR. Licensees desiring significant deviations or additional changes should instead submit an LAR that does not claim to adopt TSTF-510, Revision 2.

Dated at Rockville, Maryland, this 6th day of June 2011.
For the Nuclear Regulatory Commission.
John R. Jolicoeur,
Chief, Licensing Processes Branch, Division of Policy and Rulemaking, Office of Nuclear Reactor Regulation.

[FR Doc. 2011-15225 Filed 6-17-11; 8:45 am]

BILLING CODE 7590-01-P